DEPARTMENT OF COMMERCE

National Oceanic and Atmospheric Administration

[I.D. 080602C]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Shrimp Advisory Panel (AP) and Shrimp Bycatch Reduction Device (BRD) Advisory Panel in Charleston, SC.

DATES: The Shrimp AP and Shrimp BRD AP will meet jointly September 3, 2002 from 1:30 p.m. until 5 p.m. and September 4, 2002 from 8:30 a.m. until 5 p.m.

ADDRESSES: These meetings will be held at the Town and Country Inn, 2008 Savannah Highway, Charleston, SC 29407; telephone: 843-571-1000.

Council address: South Atlantic Fishery Managment Council, One Southpark Circle, Suite 306, Charleston, SC 29407-4699.

FOR FURTHER INFORMATION CONTACT: Kim Iverson, Public Information Officer; telephone: (843) 571-4366; fax: (843) 769-4520; email: kim.iverson@noaa.gov.

SUPPLEMENTARY INFORMATION: The purpose of this meeting is to further develop the options paper for Amendment 6 to the South Atlantic Shrimp Fishery Management Plan by including the advisory panels' input and recommendations. Management actions to be considered in Amendment 6 will include the required Sustainable Fisheries Act (SFA) criteria for all shrimp species, options to modify or remove the BRD Protocol from the Shrimp Fishery Management Plan and measures to reduce the level of turtle mortality. In relation to the increased number of turtle strandings observed, the Council is considering night time closures in the shrimp fishery as one of the options to remedy this situation.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by August 26, 2002.

Dated: August 9, 2002.
Richard W. Surdi,
Acting Director, Office of Sustainable Fisheries, National Marine Fisheries Service.

[FR Doc. 02-20737 Filed 8-14-02; 8:45 am]

BILLING CODE 3510-22-S